Proclamation 10048 of May 29, 2020

National Ocean Month, 2020

By the President of the United States of America

A Proclamation

Our ocean and coastal waterways are essential to our national security, international trade, maritime commerce, global competitiveness, and transportation. The jobs of more than 3 million Americans depend on our ocean economy, which generates more than $300 billion of economic activity annually. During National Ocean Month, we reaffirm our commitment to responsible stewardship of our ocean resources to strengthen and expand economic opportunities, while also ensuring that the natural beauty and wonder of the oceans are preserved and maintained for future generations.

There is much that remains undiscovered in the world's vast oceans, and my Administration is working to improve our understanding of its incredible resources. Today, roughly 18.6 percent of our Nation's oil and gas production is conducted offshore, employing thousands of Americans and helping keep prices low for American families and businesses. There is enormous opportunity for our country to bolster these numbers and expand this critical and profitable industry, generating even more jobs for hardworking Americans. Only 40 percent of the United States Exclusive Economic Zone (EEZ), an oceanic area larger than the combined land area of the 50 States, has been mapped. Even less of the EEZ's natural resources have been characterized through exploration. For this reason, last year, I signed a historic Presidential Memorandum that prioritizes mapping, exploring, and characterizing our ocean waters. Building upon these efforts, last month I signed an Executive Order Promoting American Seafood Competitiveness and Economic Growth. This Executive Order will increase America's competitiveness in the seafood industry and create new opportunities for American products in the global marketplace, including through continued support of our commercial fisheries and promotion of domestic aquaculture. My Administration is committed to expanding maritime commerce, increasing seafood production, promoting conservation, enhancing national security, and advancing energy exploration, development, and production by expanding efforts to study, understand, and unlock the full potential of our oceans.

As we continue to unlock the economic opportunities in these flourishing bodies of water, my Administration is also diligently working to put an end to one of the biggest challenges facing the global environment: increased pollution in the oceans. Recognizing that 80 percent of marine litter comes from land-based resources resulting from insufficient solid waste management, we have been working hard, with our domestic and international partners, to improve waste management systems around the world and deploy innovative technologies to put an end to the mass amounts of litter washing into our shared waters. In addition, I signed the Save Our Seas Act of 2018 into law, which prioritizes cleanup activities and addresses international sources of pollution.

The task of balancing the uses of America's oceans cannot be accomplished by the Federal Government alone. The 2019 White House Summit on Partnerships in Ocean Science and Technology highlighted that our continued use, conservation, observation, and exploration of the ocean requires innovative engagement and collaboration with key partners, including private industries, States, territories, academia, philanthropic groups, Native American and Tribal organizations, and other stakeholders. By working together and harnessing our collective power, knowledge, and experience, we can better promote resource stewardship, create and maintain jobs for American workers, and ensure our Nation's prosperity while conserving the marine environment.

Many of the most pressing challenges facing mankind may have solutions in the oceans. My Administration is committed to advancing technology and innovation to better understand how our oceans may help us address current and future challenges facing our Nation. Establishing energy infrastructure, discovering and developing novel marine-derived pharmaceuticals, improving weather predictions, and advancing offshore aquaculture operations are just some examples of innovative initiatives supported by my Administration. These bold efforts have the potential to promote economic prosperity, create jobs, and strengthen our maritime and homeland security for current and future generations of Americans.

NOW, THEREFORE, I, DONALD J. TRUMP, President of the United States of America, by virtue of the authority vested in me by the Constitution and the laws of the United States, do hereby proclaim June 2020 as National Ocean Month. This month, I call upon Americans to reflect on the value and importance of oceans not only to our security, environment, and economy but also as a source of recreation and enjoyment.

IN WITNESS WHEREOF, I have hereunto set my hand this twenty-ninth day of May, in the year of our Lord two thousand twenty, and of the Independence of the United States of America the two hundred and forty-fourth.

[FR Doc. 2020-12428

Filed 6-4-20; 11:15 am]

Billing code 3295-F0-P